DEPARTMENT OF THE TREASURY

United States Mint

Prices for 2012 Infantry Soldier Silver Dollar and 2012 Star-Spangled Banner Commemorative Coin Program Products

AGENCY: United States Mint, Department of the Treasury.

ACTION: Notice.

SUMMARY: The United States Mint is announcing pricing for the 2012 Infantry Soldier Silver Dollar and 2012 Star-Spangled Banner Commemorative Coin Program products. Prices for the silver products are in the table below. The attached grid is the pricing for products that include gold coins based on the market price of gold.

Product | Introductory price | Regular price
2012 Infantry Soldier Proof Silver Dollar | $54.95 | $59.95.
2012 Infantry Soldier Uncirculated Silver Dollar | $49.95 | $54.95.
2012 Infantry Soldier Silver Dollar Defenders of Freedom Set | N/A | $61.95.
2012 Star-Spangled Banner Proof $5 Gold Coin | See Attached Grid | See Attached Grid.
2012 Star-Spangled Banner Uncirculated $5 Gold Coin | See Attached Grid | See Attached Grid.
2012 Star-Spangled Banner Proof Silver Dollar | $54.95 | $59.95.
2012 Star-Spangled Banner Uncirculated Silver Dollar | $49.95 | $54.95.
2012 Star-Spangled Banner Two-Coin Set* | See Attached Grid | See Attached Grid.
*The 2012 Star-Spangled Banner Two-Coin Set includes a proof $1 gold coin as well as a proof silver dollar.

A $10 surcharge for each 2012 Infantry Soldier Silver Dollar sold is authorized to be paid to the National Infantry Foundation.

A $35 surcharge for each gold coin sold and a $10 surcharge for each silver dollar sold under the 2012 Star-Spangled Banner Commemorative Coin Program are authorized to be paid to the Maryland War of 1812 Bicentennial Commission.

FOR FURTHER INFORMATION CONTACT: B. B. Craig, Associate Director for Sales and Marketing; United States Mint; 801 9th Street NW., Washington, DC 20220; or call (202) 354-7500.

Authority: 31 U.S.C. 5111, 5112 & 9701

Dated: January 19, 2012.
Richard A. Peterson,
Deputy Director, United States Mint.

Pricing of Numismatic Commemorative Products Containing .2431 FTO Gold Coins With Surcharge of $35
Average price of gold | Commemorative gold proof | Commemorative gold proof—introductory price | Commemorative gold uncirculated | Commemorative gold uncirculated—introductory price | Star-spangled banner 2-Coin set * | Star-spangled banner 2-coin set—Introductory price *
$500.00 to $549.99 | $230.55 | $225.55 | $220.55 | $215.55 | $280.55 | $275.55
$550.00 to $599.99 | 242.70 | 237.70 | 232.70 | 227.70 | 292.70 | 287.70
$600.00 to $649.99 | 254.85 | 249.85 | 244.85 | 239.85 | 304.85 | 299.85
$650.00 to $699.99 | 267.00 | 262.00 | 257.00 | 252.00 | 317.00 | 312.00
$700.00 to $749.99 | 279.15 | 274.15 | 269.15 | 264.15 | 329.15 | 324.15
$750.00 to $799.99 | 291.30 | 286.30 | 281.30 | 276.30 | 341.30 | 336.30
$800.00 to $849.99 | 303.45 | 298.45 | 293.45 | 288.45 | 353.45 | 348.45
$850.00 to $899.99 | 315.60 | 310.60 | 305.60 | 300.60 | 365.60 | 360.60
$900.00 to $949.99 | 327.75 | 322.75 | 317.75 | 312.75 | 377.75 | 372.75
$950.00 to $999.99 | 339.90 | 334.90 | 329.90 | 324.90 | 389.90 | 384.90
$1,000.00 to $1,049.99 | 352.05 | 347.05 | 342.05 | 337.05 | 402.05 | 397.05
$1,050.00 to $1,099.99 | 364.20 | 359.20 | 354.20 | 349.20 | 414.20 | 409.20
$1,100.00 to $1,149.99 | 376.35 | 371.35 | 366.35 | 361.35 | 426.35 | 421.35
$1,150.00 to $1,199.99 | 388.50 | 383.50 | 378.50 | 373.50 | 438.50 | 433.50
$1,200.00 to $1,249.99 | 400.65 | 395.65 | 390.65 | 385.65 | 450.65 | 445.65
$1,250.00 to $1,299.99 | 412.80 | 407.80 | 402.80 | 397.80 | 462.80 | 457.80
$1,300.00 to $1,349.99 | 424.95 | 419.95 | 414.95 | 409.95 | 474.95 | 469.95
$1,350.00 to $1,399.99 | 437.10 | 432.10 | 427.10 | 422.10 | 487.10 | 482.10
$1,400.00 to $1,449.99 | 449.25 | 444.25 | 439.25 | 434.25 | 499.25 | 494.25
$1,450.00 to $1,499.99 | 461.40 | 456.40 | 451.40 | 446.40 | 511.40 | 506.40
$1,500.00 to $1,549.99 | 473.55 | 468.55 | 463.55 | 458.55 | 523.55 | 518.55
$1,550.00 to $1,599.99 | 485.70 | 480.70 | 475.70 | 470.70 | 535.70 | 530.70
$1,600.00 to $1,649.99 | 497.85 | 492.85 | 487.85 | 482.85 | 547.85 | 542.85
$1,650.00 to $1,699.99 | 510.00 | 505.00 | 500.00 | 495.00 | 560.00 | 555.00
$1,700.00 to $1,749.99 | 522.15 | 517.15 | 512.15 | 507.15 | 572.15 | 567.15
$1,750.00 to $1,799.99 | 534.30 | 529.30 | 524.30 | 519.30 | 584.30 | 579.30
$1,800.00 to $1,849.99 | 546.45 | 541.45 | 536.45 | 531.45 | 596.45 | 591.45
$1,850.00 to $1,899.99 | 558.60 | 553.60 | 548.60 | 543.60 | 608.60 | 603.60
$1,900.00 to $1,949.99 | 570.75 | 565.75 | 560.75 | 555.75 | 620.75 | 615.75
$1,950.00 to $1,999.99 | 582.90 | 577.90 | 572.90 | 567.90 | 632.90 | 627.90
$2,000.00 to $2,049.99 | 595.05 | 590.05 | 585.05 | 580.05 | 645.05 | 640.05
$2,050.00 to $2,099.99 | 607.20 | 602.20 | 597.20 | 592.20 | 657.20 | 652.20
$2,100.00 to $2,149.99 | 619.35 | 614.35 | 609.35 | 604.35 | 669.35 | 664.35
$2,150.00 to $2,199.99 | 631.50 | 626.50 | 621.50 | 616.50 | 681.50 | 676.50
$2,200.00 to $2,249.99 | 643.65 | 638.65 | 633.65 | 628.65 | 693.65 | 688.65
$2,250.00 to $2,299.99 | 655.80 | 650.80 | 645.80 | 640.80 | 705.80 | 700.80
$2,300.00 to $2,349.99 | 667.95 | 662.95 | 657.95 | 652.95 | 717.95 | 712.95
$2,350.00 to $2,399.99 | 680.10 | 675.10 | 670.10 | 665.10 | 730.10 | 725.10
$2,400.00 to $2,449.99 | 692.25 | 687.25 | 682.25 | 677.25 | 742.25 | 737.25
$2,450.00 to $2,499.99 | 704.40 | 699.40 | 694.40 | 689.40 | 754.40 | 749.40
$2,500.00 to $2,549.99 | 716.55 | 711.55 | 706.55 | 701.55 | 766.55 | 761.55
$2,550.00 to $2,599.99 | 728.70 | 723.70 | 718.70 | 713.70 | 778.70 | 773.70
$2,600.00 to $2,649.99 | 740.85 | 735.85 | 730.85 | 725.85 | 790.85 | 785.85
$2,650.00 to $2,699.99 | 753.00 | 748.00 | 743.00 | 738.00 | 803.00 | 798.00
$2,700.00 to $2,749.99 | 765.15 | 760.15 | 755.15 | 750.15 | 815.15 | 810.15
$2,750.00 to $2,799.99 | 777.30 | 772.30 | 767.30 | 762.30 | 827.30 | 822.30
$2,800.00 to $2,849.99 | 789.45 | 784.45 | 779.45 | 774.45 | 839.45 | 834.45
$2,850.00 to $2,899.99 | 801.60 | 796.60 | 791.60 | 786.60 | 851.60 | 846.60
$2,900.00 to $2,949.99 | 813.75 | 808.75 | 803.75 | 798.75 | 863.75 | 858.75
$2,950.00 to $2,999.99 | 825.90 | 820.90 | 815.90 | 810.90 | 875.90 | 870.90

[FR Doc. 2012-1599 Filed 1-25-12; 8:45 am]

BILLING CODE P